DEPARTMENT OF DEFENSE

Department of the Army

Surplus Properties; Notice

AGENCY: Department of the Army, DoD.

ACTION: Notice.

SUMMARY: This amended notice provides information regarding the properties that have been determined surplus to the United States needs in accordance with the Defense Base Closure and Realignment Act of 1990, Public Law No. 101-510, as amended, and the 2005 Base Closure and Realignment Commission Report, as approved, and following screening with Federal agencies and Department of Defense components. This Notice amends the Notice published in the Federal Register on May 9, 2006 (71 FR 26930).

DATES: Effective November 14, 2008, by adding the following surplus properties.

FOR FURTHER INFORMATION CONTACT: Headquarters, Department of the Army, Assistant Chief of Staff for Installation Management, Base Realignment and Closure (BRAC) Division, Attn: DAIM-BD, 600 Army Pentagon, Washington DC 20310-0600, (703) 601-2418. For information regarding a specific property listed below, by state, contact the Army BRAC Division at the mailing address above or at ArmyBRAC2005@hqda.army.mil.

SUPPLEMENTARY INFORMATION: Under the provisions of the Federal Property and Administrative Services Act of 1949, as amended, the Defense Base Closure and Realignment Act of 1990, as amended, and other public benefit conveyance authorities, this surplus property may be available for conveyance to State and local governments and other eligible entities for public benefit purposes. Notices of interest from representatives of the homeless, and other interested parties located in the vicinity of any listed surplus property should be submitted to the recognized Local Redevelopment Authority (LRA). The properties are listed by state. Additional information for these or any Army BRAC 2005 surplus property may be found at http://www.hqda.army.mil/acsimweb/brac/braco.htm.

Surplus Property List

1. Addition

Indiana

Newport Chemical Depot: Highway 63, Newport, IN. 47966-0160. The Army's Base Transition Coordinator is Mr. Tom Kutz whose e-mail address is Thomas.kutz@us.army.mil and his telephone number is (765) 245 4505. His mailing address is Newport Chemical Depot, P.O. Box 160, Newport, IN 47966-0160. The Vermillion County Economic Council has been recognized as the Local Redevelopment Authority (LRA). The LRA is located at 292 North Ninth Street, Clinton, IN 47842. Mr. Ed Cole can be reached for information by calling (765) 832-3870.

Oregon

Umatilla Chemical Depot: 78798 Ordinance Road, Hermiston, OR 97838. The Army's Base Transition Coordinator is Mr. Phillip M. Ferguson whose telephone number is (541) 564-5390 and his e-mail address is phillip.m.ferguson@us.army.mil. The Umatilla County Commissioners have been recognized as the Local Redevelopment Authority (LRA). Correspondence to the LRA should be directed to Mr. William Hansell, Executive Director, Umatilla County Commissioners, Umatilla County Courthouse, 216 SE 4th, Pendleton, OR 97801.

Authority: This action is authorized by the Defense Base Closure and Realignment Act of 1990, Title XXIX of the National Defense Authorization Act for Fiscal Year 1991, Pub. L. No. 101-510; the Base Closure Community Redevelopment and Homeless Assistance Act of 1994, Pub. L. No. 103-421; and 10 U.S.C. 113.

Brenda S. Bowen,
Army Federal Register Liaison Officer.

[FR Doc. E8-27174 Filed 11-14-08; 8:45 am]

BILLING CODE 3710-08-P